DEPARTMENT OF ENERGY

Federal Energy Regulatory Commission

[Docket No. CP12-483-000]

Tri-State Financial Co., LLC, (d/b/a North Country Ethanol), Red River Energy, LLC; Notice of Filing

Take notice that on July 10, 2012, Tri-State Financial Co., LLC, d/b/a North Country Ethanol (Tri-State), and Red River Energy, LLC (Red River) filed an application, pursuant to sections 7(b) and 7(c) of the Natural Gas Act (NGA), requesting authorization for Tri-State to abandon by sale, its certificate of public convenience and necessity issued on March 31, 2005, in Docket No. CP05-75-000, and for Red River to acquire and operate Tri-State's facilities located in Roberts County, South Dakota and Richland County, North Dakota. In addition, Red River requests temporary certificate authorization to continue operating Tri-State's facilities. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Tri-State requests authorization to abandon its certificate authorizing Tri-State to operate an approximately 10.5 miles long pipeline from an interconnect with the interstate pipeline facilities of Alliance Pipeline L.P. in Richland County, North Dakota, to the Tri-State's ethanol facility near Rosholt, in Roberts County, South Dakota (the Delivery Line). Red River requests a new certificate authorizing Red River to own and operate the Delivery Line on the same terms and conditions as the certificate previously issued to Tri-State. Since Red River acquired and commenced service through the Delivery Line on December 12, 2011, Red River also requests a temporary certificate, retroactively effective on December 12, 2011.

Any questions regarding the application are to be directed to William F. Demarest, Jr., Husch Blackwell LLP, 750 17th St. NW., Suite 900, Washington, DC 20006; phone number (202) 378-2310; email: William.demarest@huschblackwell.com.

Any person wishing to obtain legal status by becoming a party to the proceedings for this project should, on or before the below listed comment date, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: August 8, 2012.

Dated: July 18, 2012.
Kimberly D. Bose,
Secretary.

[FR Doc. 2012-18101 Filed 7-24-12; 8:45 am]

BILLING CODE 6717-01-P